DEPARTMENT OF COMMERCE

National Oceanic and Atmospheric Administration

RIN 0648-XH018

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's River Herring and Shad, and Ecosystem and Ocean Planning Advisory Panels will hold a public meeting.

DATES: The meeting will be held on May 20, 2019 from 1 p.m. to 4 p.m.

ADDRESSES: The meeting will be held via webinar with an audio-only connection option. Details on the proposed agenda, connection information, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: One purpose of the meeting is for both Advisory Panels to provide feedback on the development of the Council's 2020-24 strategic plan, after reviewing the results of a recent strategic planning stakeholder survey. The River Herring and Shad (RH/S) Advisory Panel will also provide input on pending RH/S issues that will be considered by the Council at separately-noticed future Council meetings. An agenda and background documents will be posted at the Council's website (www.mafmc.org) prior to the meeting.

Special Accommodations

The meeting is physically accessible to people with disabilities. Requests for sign language interpretation or other auxiliary aid should be directed toM. Jan Saunders, (302) 526-5251, at least 5 days prior to any meeting date.

Dated: April 30, 2019.
Rey Israel Marquez,
Acting Deputy Director, Office of Sustainable Fisheries, National Marine Fisheries Service.

[FR Doc. 2019-09079 Filed 5-2-19; 8:45 am]

BILLING CODE 3510-22-P